ENVIRONMENTAL PROTECTION AGENCY

40 CFR Parts 60, 62, 72, and 78

[EPA-HQ-OAR-2006-0905; FRL-8260-9]

Public Hearing for Revisions of Standards of Performance for New and Existing Stationary Sources; Electric Utility Steam Generating Units; Federal Plan Requirements for Clean Air Mercury Rule; and Revisions of Acid Rain Program Rules

AGENCY: Environmental Protection Agency (EPA).

ACTION: Announcement of Public Hearing.

SUMMARY: The EPA is announcing a public hearing for the proposed “Revisions of Standards of Performance for New and Existing Stationary Sources; Electric Utility Steam Generating Units; Federal Plan Requirements for Clean Air Mercury Rule; and Revisions of Acid Rain Program Rules”. For convenience, we refer to the proposal as the Clean Air Mercury Rule (CAMR) Federal Plan. The hearing will be held on January 18, 2007 in Washington, DC.

DATES: The public hearing for the proposal for the CAMR Federal Plan will be held on January 18, 2007. Please refer to the SUPPLEMENTARY INFORMATION of this notice, and the public hearing information given in the proposal, for additional information on the public hearing.

ADDRESSES: The hearing will be held at the EPA East Building, 1201 Constitution Avenue, NW., Washington, DC, 20004. The hearing will take place in room 1153. Written comments on the proposal may also be submitted to EPA electronically, by mail, by facsimile, or through hand delivery/courier. Please refer to the proposal for the addresses and detailed instructions for submitting comments. Documents relevant to this action are available for public inspection at the EPA Docket Center, located at 1301 Constitution Avenue, NW., Room 3334, Washington, DC between 8:30 a.m. and 4:30 p.m., Monday through Friday, excluding legal holidays. A reasonable fee may be charged for copying. Documents are also available through EPA's electronic Docket System at www.regulations.gov. The EPA website for CAMR and the federal plan Proposal, which will include information about the public hearing, is at www.epa.gov/CAMR.

FOR FURTHER INFORMATION CONTACT: If you would like to speak at the public hearing or have questions concerning it, please contact Doran Stegura at (434) 979-3700 (ext. 161) and at the address given below under SUPPLEMENTARY INFORMATION. Questions concerning the proposed CAMR federal plan should be addressed to Meg Victor, U.S. EPA, Office of Air and Radiation, Clean Air Markets Division, Washington, DC, 20005, (202) 343-9193.

SUPPLEMENTARY INFORMATION: On May 18, 2005 EPA finalized CAMR and established standards of performance for mercury (Hg) for new and existing coal-fired electric utility steam generating units (utility units or EGUs). On December 8, 2006 a CAMR Federal Plan Proposal was signed by the EPA Administrator. CAA section 111(d)(2) grants the Administrator the authority to prescribe a plan for a State in cases where the State fails to submit a satisfactory plan as he would have under section 110(c) of the CAA in the case of a State's failure to submit an implementation plan. Section 60.27 of 40 CFR part 60 directs the Administrator to promptly prepare and publish proposed regulations for a State if the State fails to submit a plan by the prescribed deadline or the Administrator disapproves the State's submitted plan and to promulgate those regulations by the date 6 months after the date required for plan submission. The CAMR Federal Plan Proposal indicated that a public hearing for the CAMR Federal Plan would be held, and the date, time, and location of the event would be announced in a separate notice. This action constitutes that notice. The public hearing will provide interested parties the opportunity to present data, views, or arguments concerning issues raised in the proposed CAMR Federal Plan. The EPA may ask clarifying questions during the oral presentations, but will not respond to the presentations at that time. Written statements and supporting information submitted during the comment period will be considered with the same weight as any oral comments and supporting information presented at the public hearing. The public hearing for the proposal for the CAMR Federal Plan will be held on January 18, 2007, in Washington, DC. The hearing will begin at 1 p.m. and end at 5 p.m. The meeting facility address is provided above under ADDRESSES. The hearing may end early if all of the registered speakers have presented. If you would like to present oral testimony at the hearing, please notify Doran Stegura, Perrin Quarles Associates, 675 Peter Jefferson Parkway, Suite 200, Charlottesville, VA 22911, telephone (434) 979-3700 (ext. 161), doranstegura@pqa.com. She will provide you with a specific time to speak. Oral testimony will be limited to 5 minutes for each commenter, after which there will be an opportunity for the panel to ask clarifying questions. EPA will be able to provide equipment for commenters to show overhead slides or make computerized slide presentations only if we receive requests in advance. Commenters should notify Doran Stegura if they will need specific equipment. The EPA encourages commenters to provide written versions of their oral testimonies either electronically on computer disk or CD ROM or in paper copy. The hearing schedule, including the speaker list, will be posted on EPA's Web pages for the Proposal at http://www.epa.gov/CAMR. A verbatim transcript of the hearing and written statements will be included in the rulemaking docket.

How Can I Obtain Copies of This Document and Other Related Information?

This notice and the CAMR Federal Plan proposal are available on EPA's web site for the CAMR rulemaking at http://www.epa.gov/CAMR and are published in the Federal Register. The EPA has established the official public docket for the CAMR Federal Plan under Docket ID No. OAR-2006-0905. Please refer to the proposal for detailed information on accessing information related to the proposal.

Dated: December 19, 2006.
Edward Callahan,
Acting Director, Office of Air and Radiation.

[FR Doc. E6-22051 Filed 12-22-06; 8:45 am]

BILLING CODE 6560-50-P